INTERNATIONAL TRADE COMMISSION

[Investigation No. 731-TA-1059 (Final)]

Hand Trucks and Certain Parts Thereof From China

Determination

On the basis of the record ¹ developed in the subject investigation, the United States International Trade Commission (Commission) determines, pursuant to section 735(b) of the Tariff Act of 1930 (19 U.S.C. 1673d(b)) (the Act), that an industry in the United States is threatened with material injury by reason of imports from China of hand trucks and certain parts thereof, provided for in subheadings 8716.80.50 and 8716.90.50 of the Harmonized Tariff Schedule of the United States, that have been found by the Department of Commerce (Commerce) to be sold in the United States at less than fair value (LTFV). The Commission further determines that it would not have found material injury but for the suspension of liquidation.

¹ The record is defined in sec. 207.2(f) of the Commission's Rules of Practice and Procedure (19 CFR 207.2(f)).

Background

The Commission instituted this investigation effective November 13, 2003, following receipt of a petition filed with the Commission and Commerce by Gleason Industrial Products, Inc., Los Angeles, CA. The final phase of the investigation was scheduled by the Commission following notification of a preliminary determination by Commerce that imports of hand trucks and certain parts thereof from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of June 8, 2004 (69 FR 32042). The hearing was held in Washington, DC, on October 7, 2004, and all persons who requested the opportunity were permitted to appear in person or by counsel.

The Commission transmitted its determination in this investigation to the Secretary of Commerce on November 22, 2004. The views of the Commission are contained in USITC Publication 3737 (November 2004), entitled Hand Trucks and Certain Parts Thereof From China: Investigation No. 731-TA-1059 (Final).

Issued: November 24, 2004.
By order of the Commission.
Marilyn R. Abbott,
Secretary to the Commission.

[FR Doc. 04-26484 Filed 11-30-04; 8:45 am]

BILLING CODE 7020-02-P